DEPARTMENT OF HOMELAND SECURITY

Coast Guard

33 CFR Part 117

[USCG-2008-0184]

RIN 1625-AA09

Drawbridge Operation Regulations; Intracoastal Waterway (ICW); Atlantic City, NJ, Air Show Event

AGENCY: Coast Guard, DHS.

ACTION: Notice of temporary deviation from regulations.

SUMMARY: The Commander, Fifth Coast Guard District, has issued a temporary deviation from the regulation governing the operation of the US40-322 (Albany Avenue) Bridge, at ICW mile 70.0, across Inside Thorofare at Atlantic City, NJ. This deviation is necessary to facilitate traffic control during the Atlantic City Air Show. This deviation will cause the bridge to be maintained in the closed-to-navigation position.

DATES: This deviation is effective from 10 a.m. to 5 p.m. on August 20, 2008.

ADDRESSES: Documents indicated in this preamble as being available in the docket are part of docket USCG-2008-0184 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the Fifth Coast Guard District, Federal Building, 1st Floor, 431 Crawford Street, Portsmouth, VA 23704-5004 between 8 a.m. and 4 p.m., Monday through Friday, except Federal holidays.

FOR FURTHER INFORMATION CONTACT: Mrs. Sandra S. Elliott, Bridge Management Specialist, Fifth Coast Guard District, at (757) 398-6557.

SUPPLEMENTARY INFORMATION: To facilitate traffic control for the Atlantic City Air Show, the US40-322 (Albany Avenue) Bridge will be maintained in the closed-to-navigation position from 10 a.m. to 5 p.m. on August 20, 2008.

The Greater Atlantic City Chamber of Commerce on behalf of the bridge owner, the New Jersey Department of Transportation (NJDOT), has requested a temporary deviation for the current operating regulation set out in 33 CFR 117.733 (f) to close the US40-322 (Albany Avenue) Bridge to navigation for the sole purpose of traffic control before, during and after the Atlantic City Air Show display, scheduled for Wednesday, August 20, 2008, from 10 a.m. to 5 p.m.

The US40-322 (Albany Avenue Bridge) at ICW mile 70.0, across Inside Thorofare at Atlantic City, NJ, a lift drawbridge, has a vertical clearance in the closed position to vessels of 10 feet, above mean high water. The current operating regulation set out in 33 CFR 117.733 (f) requires the draw shall open on signal except that: Year-round from 11 p.m. to 7 a.m. and from November 1 through March 31 from 3 p.m. to 11 p.m., the draw need only open if at least four hours notice is given; From June 1 through September 30: from 9 a.m. to 4 p.m. and from 6 p.m. to 9 p.m., the draw need only open on the hour and half hour; and from 4 p.m. to 6 p.m., the draw need not open.

During the event, vessel operators with mast height lower than 10 feet will continue to be able to transit through the drawbridge. The Atlantic Ocean is an alternate route for vessels with a mast height greater than 10 feet.

The Coast Guard reviewed the bridge logs provided by NJDOT for August 2007 which revealed that vessel traffic is primarily recreational and the number of bridge openings on weekdays averages about three openings per day. In addition, qualified personnel will be on-site to open the drawbridge for vessels in the event of an emergency.

The Coast Guard will inform the users of the waterway via maritime advisories of the closure period for the bridge so that vessels can arrange their transits to minimize any impact caused by the temporary deviation.

In accordance with 33 CFR 117.35(e), the drawbridge must return to its regular operating schedule immediately at the end of the designated time period. This deviation from the operating regulations is authorized under 33 CFR 117.35.

Dated: March 19, 2008.
Waverly W. Gregory, Jr.,
Chief, Bridge Administration Branch, Fifth Coast Guard District.

.

[FR Doc. E8-6475 Filed 3-28-08; 8:45 am]

BILLING CODE 4910-15-P